DEPARTMENT OF STATE

[Public Notice: 8815]

30-Day Notice of Proposed Information Collection: DS-7646, U.S. National Commission for UNESCO Laura W. Bush Traveling Fellowship

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATE(S): Submit comments directly to the Office of Management and Budget (OMB) up to September 8, 2014.

ADDRESSES: Direct comments to the Department of State Desk Officer in the Office of Information and Regulatory Affairs at the Office of Management and Budget (OMB). You may submit comments by the following methods:

Email: oira_submission@omb.eop.gov. You must include the DS form number, information collection title, and the OMB control number in the subject line of your message.

Fax: 202-395-5806. Attention: Desk Officer for Department of State.

FOR FURTHER INFORMATION CONTACT: Direct requests for additional information regarding the collection listed in this notice, including requests for copies of the proposed collection instrument and supporting documents, to Allison Wright, who may be reached on 202-663-0024 or at wrightas@state.gov.

SUPPLEMENTARY INFORMATION:

• Title of Information Collection: U.S. National Commission for UNESCO Laura W. Bush Traveling Fellowship.

• OMB Control Number: 1405-0180.

• Type of Request: Extension of a currently approved collection.

• Originating Office: Bureau of International Organization Affairs, Office of UNESCO Affairs, Executive Secretariat U.S. National Commission for UNESCO (IO/UNESCO).

• Form Number: DS-7646.

• Respondents: U.S. college and university students applying for a Fellowship.

• Estimated Number of Respondents: 100.

• Estimated Number of Responses: 100.

• Average Time Per Response: 10 hours.

• Total Estimated Burden Time: 1,000 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Fellowship applicants (U.S. citizen students at U.S. colleges and universities) will submit descriptions of self-designed proposals for brief travel abroad to conduct work that is consistent with UNESCO's substantive mandate to contribute to peace and security by promoting collaboration among nations through education, science, and culture in order to further universal respect for justice, for the rule of law and for the human rights and fundamental freedoms which are affirmed for the peoples of the world, without distinction of race, sex, language or religion, by the Charter of the United Nations. The fellowship is funded through private donations. The information will be reviewed for the purpose of identifying the most meritorious proposals, as measured against the published evaluation criteria.

Methodology: The U.S. Department of State, Bureau of International Organization Affairs, Office of UNESCO Affairs, Executive Secretariat, U.S. National Commission for UNESCO (IO/UNESCO) will collect this information via electronic submission.

Dated: July 31, 2014.
Allison Wright,
Executive Director, U.S. National Commission for UNESCO, Bureau of International Organization Affairs, U.S. Department of State.

[FR Doc. 2014-18704 Filed 8-6-14; 8:45 am]

BILLING CODE 4710-19-P